FEDERAL COMMUNICATIONS COMMISSION

47 CFR Part 73

[DA 00-2148; MM Docket No. 99-75; RM-9446]

Radio Broadcasting Services; Grants, Milan, NM

AGENCY: Federal Communications Commission.

ACTION: Final rule.

SUMMARY: The Commission, at the request of Don Davis, former licensee of Station KQEO(FM), now Station KXXQ(FM), Grants, New Mexico, reallots Channel 264A from Grants to Milan, New Mexico as the community's second local aural transmisson service. See 64 FR 14423 (March 25, 1999). Channel 264A at Grants was downgraded from 264C2 by one-step application (File No. BMPH-19960226IB) granted on June 13, 1996. Channel 264A can be allotted to Milan in compliance with the Commission's minimum distance separation requirements, with respect to domestic allotments, at petitioner's site 5.7 kilometers (3.6 miles) south, at coordinates 35-07-09 North Latitude and 107-54-08 West Longitude.

DATES: Effective November 6, 2000.

ADDRESSES: Federal Communications Commission, Washington, DC 20554.

FOR FURTHER INFORMATION CONTACT: Victoria M. McCauley, Mass Media Bureau, (202) 418-2180.

SUPPLEMENTARY INFORMATION: This is a synopsis of the Commission's Report and Order, MM Docket No. 99-75, adopted September 13, 2000, and released September 22, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

2. Section 73.202(b) the FM Table of Allotments under New Mexico is amended by removing Channel 264C2 at Grants and adding Milan, Channel 264A.

Federal Communications Commission.
John A. Karousos,
Chief, Allocations Branch, Policy and Rules Division, Mass Media Bureau.

[FR Doc. 00-25735 Filed 10-5-00; 8:45 am]

BILLING CODE 6712-01-P